GENERAL ACCOUNTING OFFICE

Opportunity To “Ride” Printing Order for Volume V of GAO's Principles of Federal Appropriations Law

AGENCY: General Accounting Office.

ACTION: Notice.

SUMMARY: GAO is publishing Volume V of Principles of Federal Appropriations Law, second edition—known as “The Red Book.” Agencies may now place advance (rider) orders for copies of this volume with GPO.

DATES: Rider order must be received by GPO no later than August 1, 2002.

SUPPLEMENTARY INFORMATION: The General Accounting Office (GAO) will shortly publish volume V of Principles of Federal Appropriations Law, second edition—also known as “The Red Book.” Volume V consists of a comprehensive index and tables of authority covering all of the preceding four volumes. Volume V completes the second edition of GAO's Principles of Federal Appropriations Law.

GAO will provide one copy of this volume to the heads of federal agencies. Agencies may place advance (rider) orders for additional copies of this volume with their account representatives at the Government Printing Office (GPO).

This notice is not intended to solicit orders from the general public for single copies or small order of this volume. GPO will offer volume V for sale to the general public at a later time.

Rider orders for Volume V should be placed on a Standard Form 1 and should specify GAO Requisition No. 200061. Agency orders for Volume V must be received by GPO no later than August 1, 2002. Rider requisitions for Volume V will not be accepted after this date, and additional copies will have to be purchased from the Superintendent of Documents. All rider requisitions must be submitted to GPO through each agency's Washington, DC. headquarters printing procurement office. We are advised that GPO will return all requisitions sent directly from field or regional offices.

In compiling your agency's total order, GAO suggests that you take into consideration the needs of legal offices, finance offices, contracting offices, libraries, Inspector General offices, field and regional offices, and any other elements of your agency that might use this publication.

Unlike the previous four volumes of this series, Volume V of Principles of Federal Appropriations Law will be printed in the “perfect-bound” format. Consequently, it will not require a binder.

(Authority: 31 U.S.C. 717, 719, 3511, 3526-29.)

Dated: July 3, 2002.
Anthony Gamboa,
General Counsel, United States General Accounting Office.

[FR Doc. 02-17336 Filed 7-9-02; 8:45 am]

BILLING CODE 1610-02-M